DEPARTMENT OF COMMERCE

Foreign-Trade Zones Board

[Order No. 2007]

Reorganization of Foreign-Trade Zone 70 (Expansion of Service Area) Under Alternative Site Framework; Detroit, Michigan

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Greater Detroit Foreign-Trade Zone, Inc., grantee of Foreign-Trade Zone 70, submitted an application to the Board (FTZ Docket B-10-2016, docketed February 18, 2016, amended June 9, 2016) for authority to expand the service area of the zone to include Livingston County and a portion of Lenawee County, as described in the application, adjacent to the Detroit Customs and Border Protection port of entry;

Whereas, notice inviting public comment was given in the Federal Register (81 FR 9168, February 24, 2016) and the application has been processed pursuant to the FTZ Act and the Board's regulations; and,

Whereas, the Board adopts the findings and recommendations of the examiner's report, and finds that the requirements of the FTZ Act and the Board's regulations are satisfied;

Now, Therefore, the Board hereby orders:

The amended application to reorganize FTZ 70 to expand the service area under the ASF to include Livingston County and a portion of Lenawee County is approved, subject to the FTZ Act and the Board's regulations, including Section 400.13, and to the Board's standard 2,000-acre activation limit for the zone.

Signed at Washington, DC, July 29, 2016.
Ronald K. Lorentzen,
Acting Assistant Secretary of Commerce for Enforcement and Compliance, Alternate Chairman, Foreign-Trade Zones Board.
ATTEST:
Andrew McGilvray,
Executive Secretary.

[FR Doc. 2016-18658 Filed 8-4-16; 8:45 am]

BILLING CODE 3510-DS-P